DEPARTMENT OF TRANSPORTATION

Research and Special Programs Administration

[Docket No. RSPA-00-7283; Notice No. 00-13]

Safety Advisory: Unauthorized Marking of Compressed Gas Cylinders

AGENCY: Research and Special Programs Administration (RSPA), Department of Transportation (DOT).

ACTION: Safety Advisory Notice.

SUMMARY: This is to notify the public that RSPA is investigating the unauthorized marking of high-pressure compressed gas cylinders by Eddma Corporation (EC) d/b/a Fire Services. At the time the cylinders were marked, EC was located at 1565 Diamond Springs Road, Virginia Beach, VA 23455. RSPA has determined that EC has marked an undetermined number of cylinders indicating they had been properly retested in accordance with the Hazardous Materials Regulations (HMR) without hydrostatically retesting the cylinders.

A hydrostatic retest and visual inspection of a cylinder, conducted in accordance with the Hazardous Materials Regulations (HMR), verifies the structural integrity of each cylinder. Failure to perform the hydrostatic retest and visual inspection in accordance with the HMR can result in a cylinder with compromised structural integrity being returned to service instead of condemned. Serious personal injury, death, and property damage could result from rupture of a cylinder. Cylinders that have not been retested in accordance with the HMR may not be charged or filled with a hazardous material (compressed gas).

FOR FURTHER INFORMATION CONTACT: Anthony Lima, Hazardous Materials Enforcement Specialist, Eastern Region, Office of Hazardous Materials Enforcement, Research and Special Programs Administration, US Department of Transportation, 820 Bear Tavern Rd., Suite 306, West Trenton, NJ 08628. Telephone: (609) 989-2256, Fax: (609) 989-2277.

SUPPLEMENTARY INFORMATION: Through the inspection of EC, it was determined that EC had marked an undetermined number of cylinders as having been properly retested in accordance with the HMR without retesting the cylinders as required. Specifically, the inspector determined that EC's retest equipment was obstructed by cylinders, tools, equipment and parts, so that accessibility to the equipment was hampered. In addition, there were other indications that EC had not recently operated its retest equipment. During the inspection, EC was unable to calibrate their test equipment. RSPA has determined that EC was not capable of hydrostatically retesting cylinders between June 1996 and July 1998. RSPA cannot determine the number of cylinders that EC marked without retesting because EC did not keep records.

The cylinders in question were stamped with EC's RIN, “A307”. The markings appear in the following pattern:

A 3

M Y

7 0

Where A307 is EC's RIN, M is the month of the retest (e.g., 05) and Y is the year of the retest (e.g., 98). Filled cylinders (if filled with an atmospheric gas) described in this safety advisory should be vented or otherwise properly and safely evacuated and purged, and taken to a DOT-authorized cylinder retest facility for visual reinspection and retest to determine if they qualify for continued use in accordance with the HMR. Anyone who has a cylinder that is marked with RIN A307 and dated between June 1996 and July 1998 should consider the cylinder unsafe and not charge it with a hazardous material (compressed gas) unless first properly retested by a DOT-authorized retest facility. Under no circumstances should a cylinder described in this safety advisory be filled, refilled or used for any purpose other than scrap, until it is reinspected and retested by a DOT-authorized retest facility.

Issued in Washington, D.C. on October 18, 2000.
John J. O'Connell, Jr.,
Acting Deputy Associate Administrator for Hazardous Materials Safety.

[FR Doc. 00-27299 Filed 10-23-00; 8:45 am]

BILLING CODE 4910-60-P